DEPARTMENT OF COMMERCE

International Trade Administration

(A-403-801, C-403-802)

Extension of Time Limits for Preliminary Results and Final Results of the Full Sunset Review of the Antidumping Duty Order on Fresh and Chilled Atlantic Salmon from Norway and the Final Results of the Expedited Sunset Review of the Countervailing Duty Order on Fresh and Chilled Atlantic Salmon from Norway

AGENCY: Import Administration, International Trade Administration, U.S. Department of Commerce.

EFFECTIVE DATE: May 13, 2005.

FOR FURTHER INFORMATION CONTACT: Hilary Sadler, Esq. at 202-482-4340, Import Administration, International Trade Administration, U.S. Department of Commerce, 14th Street & Constitution Avenue, NW, Washington, DC 20230.

Extension of Time Limits:

In accordance with section 751(c)(5)(B) of the Tariff Act of 1930, as amended, (“the Act”), the U.S. Department of Commerce, (“the Department”) may extend the period of time for making its determination by not more than 90 days, if it determines that the review is extraordinarily complicated. As set forth in 751(c)(5)(C)(v) of the Act, the Department may treat a sunset review as extraordinarily complicated if it is a review of a transition order. The sunset reviews subject to this notice are transition orders. Therefore, the Department has determined, pursuant to section 751(c)(5)(C)(v) of the Act, that the sunset reviews of the antidumping and countervailing duty orders on fresh and chilled salmon from Norway are extraordinarily complicated and require additional time for the Department to complete its analysis. The Department's preliminary results of the full sunset review of the antidumping duty order on fresh and chilled Atlantic salmon from Norway were scheduled for May 23, 2005, and the final results of the expedited sunset review of the countervailing duty order on fresh and chilled Atlantic salmon from Norway were scheduled for June 2, 2005. The Department will extend the deadlines in these proceedings. As a result, the Department intends to issue the preliminary results of the full sunset review of the antidumping duty order on fresh and chilled Atlantic salmon from Norway on August 21, 2005 and the final results of that review on December 29, 2005. The final results of the expedited sunset review on the countervailing duty order on fresh and chilled Atlantic salmon from Norway will now be due on August 31, 2005. These dates are 90 days from the original scheduled dates of the preliminary and final results of these sunset reviews. This notice is issued in accordance with sections 751(c)(5)(B) and (C)(v) of the Act.

Dated: May 06, 2005.
Barbara E. Tillman,
Acting Deputy Assistant Secretary for Import Administration.

[FR Doc. E5-2387 Filed 5-12-05; 8:45 am]

BILLING CODE 3510-DS-S